BROADCASTING BOARD OF GOVERNORS

Government in the Sunshine Act Meeting Change Notice

DATE AND TIME: Monday, August 24, 2015, 11:15 a.m. EDT.

PLACE: Cohen Building, Room 3321, 330 Independence Ave. SW., Washington, DC 20237.

SUBJECT: Notice of Closed Meeting of the Broadcasting Board of Governors.

SUMMARY: The Broadcasting Board of Governors (Board) previously announced a special session, originally scheduled for August 19, 2015, to discuss and approve a budget submission for Fiscal Year 2017. The meeting date had to be changed, and the Board will now meet in a special session, to be conducted telephonically, at the date and time listed above.

According to Office of Management and Budget (OMB) Circular A-11, section 22.1, all agency budgetary materials and data are considered confidential prior to the President submitting a budget to Congress. In accordance with section 22.5 of Circular A-11, the BBG has determined that its meeting should be closed to public observation pursuant to 5 U.S.C. 552b(c)(9)(B). In accordance with the Government in the Sunshine Act and BBG policies, the meeting will be recorded and a transcript of the proceedings, subject to the redaction of information protected by 5 U.S.C. 552b(c)(9)(B), will be made available to the public. The publicly-releasable transcript will be available for download at www.bbg.gov within 21 days of the date of the meeting.

Information regarding member votes to close the meeting and expected attendees can also be found on the Agency's public Web site.

FOR FURTHER INFORMATION CONTACT: Persons interested in obtaining more information should contact Oanh Tran at (202) 203-4545.

Oanh Tran,
Director of Board Operations.

[FR Doc. 2015-21056 Filed 8-20-15; 4:15 pm]

BILLING CODE 8610-01-P